DEPARTMENT OF COMMERCE

National Oceanic and Atmospheric Administration

RIN 0648-GAR-A002

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an Exempted Fishing Permit application contains all of the required information and warrants further consideration. This Exempted Fishing Permit would allow five commercial lobster vessels to participate in a lobster growth and abundance study, under the direction of Massachusetts Division of Marine Fisheries in state waters off the coast of Massachusetts.

Regulations under the Magnuson-Stevens Fishery Conservation and Management Act and the Atlantic Coastal Fisheries Cooperative Management Act require publication of this notice to provide interested parties the opportunity to comment on Exempted Fishing Permit applications.

DATES: Comments must be received on or before May 28, 2019.

ADDRESSES: You may submit written comments by any of the following methods:

• Email: NMFS.GAR.EFP@noaa.gov. Include in the subject line “Comments on MA DMF Lobster Study EFP.”

• Mail: Michael Pentony, Regional Administrator, NMFS, Greater Atlantic Regional Fisheries Office, 55 Great Republic Drive, Gloucester, MA 01930. Mark the outside of the envelope “Comments on MA DMF Lobster Study EFP.”

FOR FURTHER INFORMATION CONTACT: Laura Hansen, Fishery Management Specialist, 978-281-9225.

SUPPLEMENTARY INFORMATION: The Massachusetts Division of Marine Fisheries (MA DMF) submitted a complete renewal application for an Exempted Fishing Permit (EFP) to conduct a lobster abundance survey that Federal regulations would otherwise restrict. The purpose of this study is to provide fishery-independent data on lobster growth and abundance in Massachusetts state waters of statistical areas 514 and 538.

This survey has occurred annually since 2006 in Massachusetts state waters. On average, 15,604 lobsters per year were sampled from 2007-2016. The EFP would authorize the five participating vessels to deploy three standard and three ventless traps per six-pot trawl. Stations would be sampled twice per month from June to October 2019. Sampling trips would occur after a soak time of 3 to 5 days and at least one MA DMF scientist would be on board for the sampling trips. MA DMF personnel would not be on board when traps are baited and deployed. All gear would be Atlantic Large Whale Take Reduction Plan compliant. Survey traps will be separate from each vessel's commercial lobster traps and would be tagged as, “MADMF Research Traps.”

All catch during sampling trips would be retained temporarily to collect biological data. MA DMF staff may collect lobster and/or Jonah crab, including undersized, oversized,v-notched, and egg-bearing lobsters. Collected samples would be used for research projects on growth and maturity. No catch from the experimental trips would be landed for sale.

If approved, MA DMF may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 8, 2019.
Alan D. Risenhoover,
Director, Office of Sustainable Fisheries, National Marine Fisheries Service.

[FR Doc. 2019-09787 Filed 5-10-19; 8:45 am]

BILLING CODE 3510-22-P